FEDERAL DEPOSIT INSURANCE CORPORATION

Sunshine Act Notice of Meeting To Be Held With Less Than Seven Days Advance Notice

TIME AND DATE: 10:00 a.m. on Tuesday, December 15, 2020.

PLACE: The meeting was held in the Board Room located on the sixth floor of the FDIC Building located at 550 17th Street, NW, Washington, DC.

MATTERS TO BE CONSIDERED: Pursuant to the provisions of the Government in the Sunshine Act, notice is hereby given that the Federal Deposit Insurance Corporation's Board of Directors met in open session at 10:00 a.m. on Tuesday, December 15, 2020, to consider the following matters:

Summary Agenda

Disposition of Minutes of a Board of Directors' Meeting Previously Distributed.

Memorandum and resolution re: Final Rule on Revising the FDIC's Regulations Concerning Collection of Delinquent Civil Money Penalties.

Memorandum and resolution re: Notice of Proposed Rulemaking on Computer-Security Incident Notification.

Memorandum and resolution re: Notice of Proposed Rulemaking on Additional Exemptions to Suspicious Activity Report Requirements (12 CFR part 353).

Memorandum and resolution re: Final Rule on the Removal of Transferred OTS Regulations Regarding Application Processing Procedures for State Savings Associations and Conforming Amendments to Other Regulations (part 390, Subpart F).

Memorandum and resolution re: Final Rule on Rescission of Regulations Transferred from the Office of Thrift Supervision contained in 12 CFR part 390, subpart G, and Conforming Amendments to Existing FDIC Regulations.

Memorandum and resolution re: Final Rule on the Removal of Transferred OTS Regulations Regarding Subordinate Organizations (part 390, Subpart O).

Memorandum and resolution re: Final Rule on Removal of Transferred OTS Regulations Regarding Prompt Corrective Action Directives (part 390, Subpart Y) and Conforming Amendments to part 308, Subpart Q.

Report of actions taken pursuant to authority delegated by the Board of Directors.

Discussion Agenda:

Memorandum and resolution re: Combined Final Rule on Brokered Deposits and Interest Rate Restrictions.

Memorandum and resolution re: Final Rule on Parent Companies of Industrial Banks and Industrial Loan Companies.

Memorandum and resolution re: Proposed 2021 FDIC Operating Budget.

In calling the meeting, the Board determined, on motion of Director Brian P. Brooks (Acting Comptroller of the Currency), seconded by Director Kathleen Kraninger (Director, Consumer Financial Protection Bureau), concurred in by Director Martin J. Gruenberg, and Chairman Jelena McWilliams, that Corporation business required its consideration of the matters on less than seven days' notice to the public; and that no earlier notice of the meeting than that previously provided on December 11, 2020, was practicable.

Dated this the 15th day of December, 2020.
Federal Deposit Insurance Corporation.
James P. Sheesley,
Assistant Executive Secretary.

[FR Doc. 2020-27995 Filed 12-17-20; 11:15 am]

BILLING CODE 6714-01-P